DEPARTMENT OF THE INTERIOR

National Park Service

Draft General Management Plan and Environmental Impact Statement for the First Ladies National Historic Site, Ohio; Correction

AGENCY: National Park Service.

ACTION: Notice of availability of the draft general management plan and draft environmental impact statement for the First Ladies National Historic Site, Ohio; correction.

SUMMARY: In the December 28, 2004, Federal Register, the National Park Service (NPS) announced the availability of the draft general management plan and environmental impact statement (GMP/EIS) for the First Ladies National Historic Site (the park). Due to unanticipated delays, the document will not be available until April 25, 2005.

Correction: The draft GMP/EIS will be made available for public review for 60 days following the publishing of the notice of availability in the Federal Register by the Environmental Protection Agency. The NPS will notice the draft GMP/EIS availability and public meetings in local media and on the Planning, Environment, and Public Comment Web site at the following address: http://parkplanning.nps.gov/publicHome.cfm.

ADDRESSES: Copies of the GMP/EIS will be available by request by writing to the First Ladies National Historic Site, c/o Site Manager, 8095 Mentor Avenue, Mentor, Ohio 44060, by telephoning 440-974-2993 or by e-mail to carol_j_spears@nps.gov. The document will also be available to be picked up in person at the First Ladies National Historic Site, 331 Market Avenue South, Canton, Ohio 44702.

Dated: January 31, 2005.
Ernest Quintana,
Regional Director, Midwest Region.

[FR Doc. 05-4738 Filed 3-9-05; 8:45 am]

BILLING CODE 4312-86-P